SMALL BUSINESS ADMINISTRATION

[Disaster Declaration #11342]

Texas Disaster Number TX-00298

AGENCY: U.S. Small Business Administration.

ACTION: Amendment 2.

SUMMARY: This is an amendment of the Presidential declaration of a major disaster for Public Assistance Only for the State of Texas (FEMA—1780—DR), dated 07/24/2008.

Incident: Hurricane Dolly.

Incident Period: 07/22/2008 through 08/01/2008.

Effective Date: 08/13/2008.

Physical Loan Application Deadline Date: 09/22/2008.

Economic Injury (EIDL) Loan Application Deadline Date: 04/24/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Texas, dated 07/24/2008, is hereby amended to include the following areas as adversely affected by the disaster.

Primary Counties: Jim Hogg.

Contiguous Counties (Economic Injury Loans Only): Webb.

All other information in the original declaration remains unchanged.

(Catalog of Federal Domestic Assistance Number 59002 and 59008)

Herbert L. Mitchell,
Associate Administrator for Disaster Assistance.

[FR Doc. E8-19888 Filed 8-26-08; 8:45 am]

BILLING CODE 8025-01-P